DEPARTMENT OF HEALTH AND HUMAN SERVICES

Centers for Disease Control and Prevention

Notice of Public Meeting/Opportunity for Public Comment: Healthy People 2010 Tobacco Objectives

AGENCY: Department of Health and Human Services, Centers for Disease Control and Prevention Office on Smoking and Health.

DATE AND TIME: November 18, 2002, 1 p.m. to 4 p.m.

PLACE: Hilton San Francisco, 333 O'Farrell Street, San Francisco, CA 94102, telephone 415/771-1400.

SUMMARY: The Healthy People 2010 Tobacco Workgroup is convening a meeting and soliciting comments on progress towards meeting the Healthy People 2010 tobacco objectives. The meeting is scheduled immediately prior to the 2002 National Conference on Tobacco or Health. The meeting is open to the public and will allow attendees of the Conference and other interested parties an opportunity to provide input to the Healthy People 2010 Tobacco Workgroup. Individuals and organizations are encouraged to comment on the Healthy People 2010 tobacco objective progress in one or both of the following ways: (1) In writing, by submission through the mail, or e-mail; (2) In person, at a public meeting that will be convened in San Francisco, CA.

STATUS: Open to the public, limited only by the space available. Comments will also be accepted during the public meeting. If you would like to attend the public meeting, you are encouraged to register early by providing your name, title, organization name, address, and telephone number to Monica Swann (address below). If you would like to speak at the meeting, please notify Monica Swann when you register. The U.S. government encourages individuals to submit written comments, either electronically or by mail. Comments also will be accepted during the meeting. Written comments may be submitted until December 27, 2002. Comments can be submitted by mail or electronically (electronic submissions are encouraged).

ADDRESSES: To submit electronic comments, send via e-mail to Healthypeople@cdc.gov. To submit comments by mail, send to: Healthy People 2010 Tobacco comments (Attn: Ms. Monica Swann), Office on Smoking and Health, 200 Independence Ave., Room 317-B, Washington, DC 20201.

SUPPLEMENTARY INFORMATION: Healthy People 2010 is a decade-long national initiative based on science, data and policy which aims to improve health, and includes federal and state government and many other diverse stakeholders, and reflects the complexity of the health structure in the United States. There are 28 health topics including tobacco.

The tobacco objectives are broken down into four areas: prevalence; cessation and treatment, secondhand smoke, and social and environmental change. The tobacco objective progress review should document barriers and strategies to achieving the objectives, as well as implementation efforts underway to reach the specific population targets. The comment period and public meeting are intended to give interested persons, including public health and medical professionals, state and local officials, farmers, retailers, manufacturers, and others an opportunity to comment. On November 18, 2002, the Healthy People 2010 Tobacco Workgroup will be receiving comments on progress towards reaching the Healthy People 2010 tobacco objectives. Oral comments are especially requested to cover one or more of the following areas: Adult and youth prevalence, cessation and treatment, secondhand smoke, and disparities. To accommodate all the participants who wish to speak, comments will be limited to three minutes. Written comments are also encouraged from the public on progress towards the Healthy People 2010 tobacco objectives progress. This is an opportunity to provide comments on barriers as well as strategies to reach the tobacco objectives.

The Workgroup is especially seeking information on the Healthy People areas: Adult/youth prevalence, cessation and treatment, secondhand smoke, and disparities.

Background documents on the Healthy People 2010 are available at http://www.health.gov/healthypeople. Background information on tobacco is available at www.cdc.gov/tobacco.

Submitted comments will be posted on the Internet at http://www.cdc.gov/tobacco.

FOR FURTHER INFORMATION CONTACT: Ms. Victoria Wagman, Office on Smoking and Health, 200 Independence Ave., Suite 317-B, Washington, DC 20201, 202-205-8500 (telephone) or (202) 205-8313 (facsimile) or healthypeople@cdc.gov.

The Director, Management Analysis and Services Office, has been delegated the authority to sign Federal Register Notices pertaining to announcements of meetings and other committee management activities, for both the Centers for Disease Control and Prevention and the Agency for Toxic Substances and Disease Registry.

Dated: August 14, 2002.
Joseph E. Salter,
Acting Director, Management Analysis and Services Office, Centers for Disease Control and Prevention.

[FR Doc. 02-21084 Filed 8-19-02; 8:45 am]

BILLING CODE 4160-17-P